DEPARTMENT OF HEALTH AND HUMAN SERVICES

National Institutes of Health

National Cancer Institute Amended Notice of Meeting

Notice is hereby given of a change in the meeting of the Joint Board meeting of the National Cancer Advisory Board and NCI Board of Scientific Advisors, December 5, 2016, 4:30 p.m. to December 7, 2016, 12:00 p.m., National Cancer Institute Shady Grove, Shady Grove, 9609 Medical Center Drive, 7W116, Rockville, MD 20850 which was published in the Federal Register on October 31, 2016, 81 FR 75423.

The meeting notice is amended to change the date, time and location of the meeting and to cancel the Ad Hoc Subcommittee on Global Cancer Research on December 5, 2016. There will be a National Cancer Advisory Board Ad hoc Subcommittee on Clinical Investigations on December 5, 2016, from 6:00 p.m. to 7:30 p.m. at the Pooks Hill Marriott Hotel, Annapolis and Chesapeake Room, 5151 Pooks Hill Road, Bethesda, MD 20814. The Joint meeting of the National Cancer Advisory Board and NCI Board of Scientific Advisors will now be held on December 6, 2016 at the National Institutes of Health, Building 31, Conference Room 10, 31 Center Drive, Bethesda, MD 20892. The open session is from 8:30 a.m. to 3:45 p.m. The closed session will begin at 4:00 p.m. and end at 5:00 p.m. The meeting is partially closed to the public.

Dated: November 17, 2016.
Melanie J. Pantoja,
Program Analyst, Office of Federal Advisory Committee Policy.

[FR Doc. 2016-28146 Filed 11-22-16; 8:45 am]

BILLING CODE 4140-01-P